ENVIRONMENTAL PROTECTION AGENCY

[EPA-HQ-OPPT-2010-0572; FRL-10003-00]

Agency Information Collection Activities; Proposed Renewal of an Existing Collection (EPA ICR No. 2517.03 and OMB Control No. 2070-0194); Comment Request

AGENCY: Environmental Protection Agency (EPA).

ACTION: Notice.

SUMMARY: In compliance with the Paperwork Reduction Act (PRA), this document announces that EPA is planning to submit an Information Collection Request (ICR) to the Office of Management and Budget (OMB). The ICR, entitled: “Chemical-Specific Rules under the Toxic Substances Control Act Section 8(a); Certain Nanoscale Materials” and identified by EPA ICR No. 2517.03 and OMB Control No. 2070-0194, represents the renewal of an existing ICR that is scheduled to expire on August 31, 2020. Before submitting the ICR to OMB for review and approval, EPA is soliciting comments on specific aspects of the proposed information collection that is summarized in this document. The ICR and accompanying material are available in the docket for public review and comment.

DATES: Comments must be received March 30, 2020.

ADDRESSES: Submit your comments, identified by docket identification (ID) number EPA-HQ-OPPT-2010-0572, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW, Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT:

For technical information contact: Jim Alwood, Chemical Control Division, Mail Code: 7405M, Office of Pollution Prevention and Toxics, Environmental Protection Agency, 1200 Pennsylvania Ave. NW, Washington, DC 20460-0001; telephone number: (202) 564-8974; email address: alwood.jim@epa.gov.

For general information contact: The TSCA-Hotline, ABVI-Goodwill, 422 South Clinton Ave., Rochester, NY 14620; telephone number: (202) 554-1404; email address: TSCA-Hotline@epa.gov.

SUPPLEMENTARY INFORMATION:

I. What information is EPA particularly interested in?

Pursuant to PRA section 3506(c)(2)(A) (44 U.S.C. 3506(c)(2)(A)), EPA specifically solicits comments and information to enable it to:

1. Evaluate whether the proposed collection of information is necessary for the proper performance of the functions of the Agency, including whether the information will have practical utility.

2. Evaluate the accuracy of the Agency's estimates of the burden of the proposed collection of information, including the validity of the methodology and assumptions used.

3. Enhance the quality, utility, and clarity of the information to be collected.

4. Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

II. What information collection activity or ICR does this action apply to?

Title: Chemical-Specific Rules under the Toxic Substances Control Act Section 8(a); Certain Nanoscale Materials.

ICR number: EPA ICR No. 2517.03.

OMB control number: OMB Control No. 2070-0194.

ICR status: This ICR is currently scheduled to expire on 8/31/2020. An Agency may not conduct or sponsor, and a person is not required to respond to, a collection of information, unless it displays a currently valid OMB control number. The OMB control numbers for EPA's regulations in title 40 of the Code of Federal Regulations (CFR), after appearing in the Federal Register when approved, are listed in 40 CFR part 9, are displayed either by publication in the Federal Register or by other appropriate means, such as on the related collection instrument or form, if applicable. The display of OMB control numbers for certain EPA regulations is consolidated in 40 CFR part 9.

Abstract: This information collection request (ICR) covers reporting and recordkeeping requirements for persons who manufacture or process chemical substances as nanoscale materials and is related to a final rule issued under the authority of section 8(a) of the Toxic Substances Control Act (TSCA). Although approved as an ICR addendum to revise an existing approved ICR to incorporate reporting and recordkeeping requirements in the TSCA section 8(a) rule for Certain Nanoscale Materials (identified under RIN 2070-AJ54), it was not incorporated into the existing ICR after its approval. As a result, EPA is seeking to renew the approval of the addendum and will work to consolidate the ICRs during the next approval time period.

TSCA section 8(a) authorizes EPA to promulgate rules that require persons who manufacture or process chemical substances and mixtures, or who propose to manufacture or process chemical substances and mixtures, to maintain such records and submit such reports to EPA as may be reasonably required. Information that may be collected under TSCA section 8(a) includes, but is not limited to, chemical names, categories of use, production volume, byproducts of chemical production, existing information on health and environmental effects, exposure information, and disposal information. This information is collected by the Office of Pollution Prevention and Toxics (OPPT) and may be used by other EPA offices and/or Federal agencies to ensure knowledge of specific practices that may affect human health and the environment.

Under TSCA section 8(a), EPA is establishing reporting and recordkeeping requirements for certain chemical substances as nanoscale materials. The rule requires that persons who manufacture or process these nanoscale materials notify EPA of certain information which includes production volume, methods of manufacture and processing, exposure and release information, and available health and safety information. The reporting of these activities will provide EPA with an opportunity to evaluate the information and consider appropriate action under TSCA to reduce any risk to human health or the environment. The information will also inform EPA's assessments of new chemical nanoscale materials submitted to EPA under TSCA section 5.

EPA's OPPT, other EPA Offices and/or other Federal agencies will generally be the primary groups for which information will be collected. However, to the extent that reported information is not considered to be confidential business information (CBI), environmental groups, environmental justice advocates, state and local government entities and other members of the public will have access to this information for their own use.

The ICR, which is available in the docket along with other related materials, provides a detailed explanation of the collection activities and the burden estimate that is only briefly summarized here:

Respondents/affected entities: Entities potentially affected by this ICR are nanomaterial manufacturers and nanomaterial processors.

Estimated total number of potential respondents: 285 per year.

Frequency of response: On occasion.

Estimated total average number of responses for each respondent: 0.78 per year.

Estimated total annual burden hours: 40,089 hours.

Estimated total annual costs: $3,067,546. This includes an estimated burden cost of $3,067,546 and an estimated cost of $0 for capital investment or maintenance and operational costs.

Burden statement: The annual public reporting and recordkeeping burden for this collection of information is estimated to average approximately 121 hours per response. Burden is defined in 5 CFR 1320.3(b).

III. Are there changes in the estimates from the last approval?

There is decrease of 26,861 hours in the total estimated respondent burden compared with that identified in the ICR currently approved by OMB. This decrease reflects EPA's expectation of decreased submissions. In the previous ICR period, the rule required an initial one-time reporting on current nanomaterials, while the reporting covered in this period only requires the reporting of new nanomaterials. Furthermore, burden estimates assume that the same manufacturers will report each year and, therefore, will have already undertaken rule familiarization in the previous ICR period. Wage rates were also updated to reflect 2018 dollars. This change is an adjustment in estimates.

IV. What is the next step in the process for this ICR?

EPA will consider the comments received and amend the ICR as appropriate. The final ICR package will then be submitted to OMB for review and approval pursuant to 5 CFR 1320.12. EPA will issue another Federal Register document pursuant to 5 CFR 1320.5(a)(1)(iv) to announce the submission of the ICR to OMB and the opportunity to submit additional comments to OMB. If you have any questions about this ICR or the approval process, please contact the technical person listed under FOR FURTHER INFORMATION CONTACT.

Authority: 44 U.S.C. 3501 et seq.

Dated: January 17, 2020.
Alexandra Dapolito Dunn,
Assistant Administrator, Office of Chemical Safety and Pollution Prevention.

[FR Doc. 2020-01345 Filed 1-27-20; 8:45 am]

BILLING CODE 6560-50-P